SMALL BUSINESS ADMINISTRATION

[Disaster Declaration # 10440 and # 10441]

Tennessee Disaster Number TN-00008

AGENCY: U.S. Small Business Administration.

ACTION: Amendment 1.

SUMMARY: This is an amendment of the Presidential declaration of a major disaster for the State of Tennessee (FEMA-1634-DR), dated April 5, 2006.

Incident: Tornadoes and Severe Storms.

Incident Period: April 2, 2006 and continuing through April 8, 2006.

Effective Date: April 10, 2006.

Physical Loan Application Deadline Date: June 5, 2006.

EIDL Loan Application Deadline Date: January 5, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Tennessee, dated April 5, 2006, is hereby amended to re-establish the incident period for this disaster as beginning April 2, 2006 and continuing through April 8, 2006.

All other information in the original declaration remains unchanged.

(Catalog of Federal Domestic Assistance Numbers 59002 and 59008)

Herbert L. Mitchell,
Associate Administrator for Disaster Assistance.

[FR Doc. E6-5698 Filed 4-17-06; 8:45 am]

BILLING CODE 8025-01-P